DEPARTMENT OF THE INTERIOR

National Park Service

[NPS-WASO-NAGPRA-NPS0034444; PPWOCRADN0-PCU00RP14.R50000]

Notice of Inventory Completion: Department of Anthropology, Florida Atlantic University, Boca Raton, FL

AGENCY: National Park Service, Interior.

ACTION: Notice.

SUMMARY: The Department of Anthropology at Florida Atlantic University has completed an inventory of human remains, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Department of Anthropology at Florida Atlantic University. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Department of Anthropology at the address in this notice by October 6, 2022.

FOR FURTHER INFORMATION CONTACT: Meredith Ellis, Department of Anthropology, Florida Atlantic University, 777 Glades Road, Boca Raton, FL 33431, telephone (561) 297-3230, email ellism@fau.edu.

SUPPLEMENTARY INFORMATION: Notice is here given in accordance with the Native American Graves Protection and Repatriation Act (NAGPRA), 25 U.S.C. 3003, of the completion of an inventory of human remains and associated funerary objects under the control of the Department of Anthropology, Florida Atlantic University, Boca Raton, FL. The human remains and associated funerary objects were removed from various locations throughout the State of Florida.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by the Department of Anthropology at Florida Atlantic University professional staff in consultation with representatives of the Seminole Tribe of Florida (previously listed as Seminole Tribe of Florida (Dania, Big Cypress, Brighton, Hollywood, & Tampa Reservations)). The Miccosukee Tribe of Indians; The Muscogee (Creek) Nation; and The Seminole Nation of Oklahoma were invited to consult but did not participate. Hereafter, all the Indian Tribes listed in this section are referred to as “The Consulted and Invited Tribes.”

History and Description of the Remains

In April of 1973, human remains representing, at minimum, 35 individuals were removed from the Boynton Beach Mound Site (8PB100) in Palm Beach, FL, by Kenneth Horton and Howard Jaffee of the Palm Beach Archaeological Society. The Boynton Beach Mound Site dates from 150 B.C. to the time of European contact. Radiocarbon dates from samples of the excavated areas give dates of 150 B.C. and A.D. 400. In December of 1985, the human remains were transferred to Florida Atlantic University (FAU). The human remains are fragmentary and include partial crania and teeth. No known individuals were identified. The 929 associated funerary objects are glass, gold, and silver burial beads identified by Robert Carr as 16th century and Spanish.

Between May and June of 1980, human remains representing, at minimum 55 individuals were removed from the Briarwoods Site (8PA66) in Pasco County, FL, by J. Mitchem during a salvage operation associated with the Department of Anthropology at the University of Florida, Gainesville. The Briarwoods Site is a small prehistoric Native American sand burial site. It was occupied during the Safety Harbor Period (A.D. 1400-1513) and might have contained an earlier, Weeden Island component (A.D. 1000-1500). In 1981, the skeletal remains were transferred to FAU by the University of South Florida, Tampa. The human remains are fragmentary, and age or sex were unable to be determined. No known individuals were identified. No associated funerary objects are present.

In December of 1980, human remains representing, at minimum, four individuals were removed from the Brickell Bluff Site (8DA1082) in Dade County, FL, by Robert S. Carr during a salvage excavation. The site is a prehistorical coastal mortuary site dated as a late Archaic (4000-3000 BP). In December 1980, the fragmented skeletal remains were transferred to FAU. No known individuals were identified. No associated funerary objects are present.

In 1980, human remains representing, at minimum, 16 individuals were removed from the Flagami South Site (8DA1053) in Dade County, FL, by Robert S. Carr in a salvage excavation. The Flagami South Site is dated Late Archaic/Transitional Glades I-II through early Glades III period of Spanish Contact. In 1980, the human skeletal remains from the site were transferred to FAU. They are fragmentary and include two likely males and four likely females. No known individuals were identified. No associated funerary objects are present.

In 1980, human remains representing, at minimum, 99 individuals were removed from the Highland Beach Site (8PB11) in Palm Beach County, FL, by Yasar Mehmet Iscan of FAU during a salvage excavation. The site dates from A.D. 800 to 1200. Commingled cranial and postcranial elements, many fragmentary, were removed from the site. The human remains include 45 males and 49 females. No known individuals were identified. No associated funerary objects are present.

In 1959, human remains representing, at minimum, 12 individuals were removed during the digging of a drainage canal at the Margate-Blount site (8BD41) in Broward County, FL. The site was occupied for the entirety of the post-archaic period, including during the period of European contact. No known individuals were identified. No associated funerary objects are present.

In April of 1985, human remains representing, at minimum, two individuals were removed during a salvage excavation at the Nebot Site (8PB219) in Palm Beach County, FL, by archeologists from FAU. The site is dated Glades IIIc. The human remains are fragmentary and belong to two females, one of whom was approximately 16-17 years old and the other approximately 35-39 years old. No known individuals were recovered. The 11 associated funerary objects are one bone knife; two bone pins; one bone scraper; one stone projectile point; four unmodified shark teeth; and two shell fragments.

Between 1976 and 1977, human remains representing, at minimum, seven individuals were removed during a salvage operation at the Patrician Mound Site (8PB99) in Palm Beach County, FL, by the Palm Beach County Archaeological Society. The site is dated as Glades I-III with carbon-14 dates ranging from 4000 years ago to 1200 years ago. The skeletal remains and funerary objects were transferred to FAU in 1985. No known individuals were identified. The 25 associated funerary objects are 25 ampullaria snail shells.

In 1968, human remains representing, at minimum, 37 individuals were removed from the Republic Groves Site (8Hr4) in Hardee County, FL, by Mitchell Hope, William Sears, and Audrey Sublett of FAU. The site is dated as late Middle Archaic through the Paleoindian period, 4600 B.C. through 2000 B.C. The human remains are commingled. Some of them belong to subadults, 6 to 7 years old. No known individuals were identified. No associated funerary objects are present.

In 1981, human remains representing, at minimum, six individuals were removed from the Santa Maria site (8DA2132) in Miami-Dade County, FL, by Dr. Mehmet Yasar Iscan and Robert Carr and brought to FAU. The site is dated as Late Archaic Period, 4000-3000 BP.

The human remains are commingled. No known individuals were identified. No associated funerary objects are present.

In 1983, human remains representing, at minimum, one individual were removed during construction monitoring at the Jose Marti Site (8DA3220) in Dade County, FL, by Robert Carr and Associates. The site is dated Glades I. The Florida Master Site file mentions faunal remains and pottery, includes a brief mention of a partial cranium, and lists the Historical Museum of Southern Florida as the repository for materials from the excavation. No known individual was identified. No associated funerary objects are present.

In 1971, human remains representing, at minimum, one individual were removed during a surface collection at Emerald Towers (8BD57) in Broward County, FL, by Furey and Steinen. The site likely dates to between Glades I and Glades II. The human remains are fragmentary. No known individual was identified. No associated funerary objects are present.

In 1965, human remains representing, at minimum, one individual were removed from Joseph Reed Mound (8MT13) in Martin County, FL. Prior investigation of the mound identified it as a large shell ring site. The human remains were sent to FAU by Ranger Bacheller, on behalf of the then-site owner Nat Reed. The human remains are comprised of a partial skull. No known individual was identified. No associated funerary objects are present.

At an unknown time, human remains representing, at minimum, two individuals were removed from Bull Head Grove #5/Uzell Pens in Glades County, FL. There is little to no information on the human remains, which consist of several fragments of human bone and teeth. No known individuals were identified. No associated funerary objects are present.

In 1967, human remains representing, at minimum, two individuals were removed from the Hutchinson Island/Gilbert Bar Site (8MT14c) in Martin County, FL, by William Dias and Ronald Pagel. They identified the site as a burial mound, 50% of which had already been destroyed by pot hunters. Their notes indicate that extensive human remains were collected from the burial mound, and that the Martin County Historical Society had been conducting its own excavations at the site. Apparently, the Florida Master Site File for the 1967 excavation no longer exists, though the current Master Site File for 8MT37 may be related to this excavation. The human remains are fragmentary and commingled, and the MNI is based on two left patellae. No known individuals were identified. No associated funerary objects are present.

In 1972, human remains representing, at minimum, two individuals were removed from the Boca Weir/Jap Rock Site (8PB56) in Palm Beach County, FL, by John F. Furey. Furey associated the site with the Spanish River Complex. The skeletal elements are commingled and fragmentary. No known individuals were identified. No associated funerary objects are present.

Between 1978 and 1980, human remains representing, at minimum, one individual were removed from the Rivera Beach Site (8PB30) in Palm Beach County, FL, by the Palm Beach Archaeological Society. The site is dated Glades III. The two skeletal elements at FAU likely derive from the 1978 excavations. No known individual was identified. No associated funerary objects are present.

At an unknown date, human remains representing, at minimum, one individual were removed from the Kendall Site (8DA1081) in Dade County, FL, by persons unknown. The site is dated Glades II-III site and has been extensively excavated. The human remains are commingled and fragmentary. No known individual was identified. No associated funerary objects are present.

At an unknown date, human remains representing, at minimum, five individuals were removed from the TaMiami Trail Site (8DA33) in Dade County, FL. Although when or by whom the human remains were excavated cannot be certain, the Florida Master Site file does indicate that John Goggin conducted a surface collection in 1952. Goggin, though, never mentioned collecting any human remains. In his work he notes that the site he excavated in 1952 is likely Glades Ib. The human remains are commingled and fragmentary. No known individuals were identified. No associated funerary objects are present.

In 1975, human remains representing, at minimum, 15 individuals were removed during a salvage excavation at Belle Glade Mound (8PB41) in Palm Beach County, FL, by Aubrey Sublett. In addition to the human remains at FAU, skeletal elements, including complete skulls, are listed as being curated at the Palm Beach Museum of Natural History and at the Florida Museum of Natural History. The human remains are comingled and fragmentary. No known individuals were identified. No associated funerary objects are present.

Sometime around 1970, human remains representing, at minimum, 20 individuals were removed from Canal Point 2 (8PB45) in Palm Beach County, FL. Sugar company employees found human remains while digging ditches at the site. Very little information is recorded about this discovery and removal or how the human remains entered the collection at FAU. The human remains are comprised of over 1,400 skeletal fragments. No known individuals were identified. No associated funerary objects are present.

In 1966, human remains representing, at minimum, 11 individuals were removed from Canal Point 3 (8PB046) in Palm Beach County, FL. In 1966, the United States Sugar Corporation reported human remains at the site. Excavations in multiple trench sites uncovered a large amount of human bones and cultural materials. Prior excavations, in 1939, resulted in the removal of additional human skeletal remains which, according to the Florida Master Site file, were sent to the Smithsonian Institution. The human remains are commingled and are comprised of approximately 1,461 fragments, including the nearly complete skull of a probable female. No known individuals were identified. No associated funerary objects are present.

At an unknown date, human remains representing, at minimum, one individual were removed from a burial site at Hialeah (8DA82A) in Dade County, FL. No other documentation exists for this site, and this burial is not mentioned in the Florida Master Site File. However, records from archeologist D.D. Laxson, housed at FAU, indicate that he excavated four locations at DA82, Hialeah 1-4, and encountered another, partial historic Seminole burial, which he reported in a 1954 Florida Anthropologist article. It seems likely that this burial is from a related area. The well-preserved human remains belong to a young adult male, 17-23 years old. Reconstruction of the skull by a previous researcher shows that this individual had sustained at least four sharp force trauma wounds. In addition, the postcranial skeleton exhibits extensive perimortem crushing injuries, suggesting that the individual was trampled, perhaps by a horse. This individual appears to be a historic Seminole based on preservation, site location, and trauma patterns. No known individual was identified. No associated funerary objects are present.

Determinations Made by the Department of Anthropology, Florida Atlantic University

Officials of the Department of Anthropology, Florida Atlantic University have determined that:

• Pursuant to 25 U.S.C. 3001(9), the human remains described in this notice represent the physical remains of 336 individuals of Native American ancestry.

• Pursuant to 25 U.S.C. 3001(3)(A), the 965 objects described in this notice are reasonably believed to have been placed with or near individual human remains at the time of death or later as part of the death rite or ceremony.

• Pursuant to 25 U.S.C. 3001(2), there is a relationship of shared group identity that can be reasonably traced between the Native American human remains and associated funerary objects and the Seminole Tribe of Florida (previously listed as Seminole Tribe of Florida (Dania, Big Cypress, Brighton, Hollywood, & Tampa Reservations)).

Additional Requestors and Disposition

Lineal descendants or representatives of any Indian Tribe or Native Hawaiian organization not identified in this notice that wish to request transfer of control of these human remains and associated funerary objects should submit a written request with information in support of the request to Meredith Ellis, Department of Anthropology, Florida Atlantic University, Boca Raton, FL 33431, telephone (561) 297-4768, email ellism@fau.edu, by October 6, 2022. After that date, if no additional requestors have come forward, transfer of control of the human remains and associated funerary objects to the Seminole Tribe of Florida (previously listed as Seminole Tribe of Florida (Dania, Big Cypress, Brighton, Hollywood, & Tampa Reservations)) may proceed.

The Department of Anthropology, Florida Atlantic University is responsible for notifying The Consulted and Invited Tribes that this notice has been published.

Dated: August 29, 2022.
Melanie O'Brien,
Manager, National NAGPRA Program.

[FR Doc. 2022-19163 Filed 9-2-22; 8:45 am]

BILLING CODE 4312-52-P